DEPARTMENT OF TRANSPORTATION

Federal Motor Carrier Safety Administration

[Docket No. FMCSA-2003-16324]

Notice of Request for Clearance of a New Information Collection: Share The Road Safely Campaign Assessment

AGENCY: Federal Motor Carrier Safety Administration (FMCSA), DOT.

ACTION: Notice and request for comments.

SUMMARY: In accordance with the requirement in section 3506(c)(2)(A) of the Paperwork Reduction Act of 1995, this notice announces the intention of the FMCSA to request the Office of Management and Budget (OMB) to approve a new information collection related to one of its national motor carrier safety initiatives, titled “Share The Road Safely (STRS)” campaign. The STRS campaign is a public information, education and outreach program designed to improve the motoring public's awareness of the operating limitations of large commercial motor vehicles. The program's goal is to lower the number of crashes, injuries, and fatalities by targeting high-risk drivers with this important safety message. It also seeks to increase motorists' awareness of the STRS campaign and its highway safety messages. When appropriate, campaign efforts will combine local law enforcement activities for car-truck proximity violations. The agency plans to collect information from a sample of the Nation's non-commercial licensed drivers to determine the motoring public's recognition and awareness of FMCSA's STRS campaign.

DATES: Comments must be submitted on or before February 6, 2004.

ADDRESSES: All signed, written comments should refer to the docket number that appears in the heading of this document and must be submitted to the Docket Clerk, U.S. DOT Dockets, Room PL-401, 400 Seventh Street, SW., Washington, DC 20590-0001. All comments received will be available for examination at the above address between 10 a.m. to 5 p.m., e.t., Monday through Friday, except Federal holidays. Those desiring notification of receipt of comments must include a self-addressed, stamped postcard or envelope.

Electronic Access: An electronic copy of this document may be downloaded using the Internet at the Office of the Federal Register's home page at: http://www.nara.gov/fedreg and the Government Printing Office's database at: http://www.access.gpo.gov/nara. For Internet users, all comments received will be available for examination at the universal source location: http://dms.dot.gov. Please follow the instructions on-line for additional information and guidance.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: Mr. Brian Ronk, Program Manager, Share The Road Safely, (202) 366-1072, Safety Action Programs Division, Office of Safety Programs, Federal Motor Carrier Safety Administration, 400 7th Street SW., Suite 8314, Washington, DC 20590. Office hours are from 7 a.m. to 4:30 p.m., e.t., Monday through Friday, except Federal holidays.

SUPPLEMENTARY INFORMATION:

Title: Share The Road Safely Campaign Assessment.

Background: The purpose of the STRS campaign is to help reduce the number of car-truck crashes, injuries, fatalities, and property loss. The campaign was initiated by the FMCSA in 1994 in response to a congressional mandate set forth in the Intermodal Surface Transportation Efficiency Act of 1991 (ISTEA) (Public Law 102-240, 105 Stat. 1914 (December 18, 1991), that the FMCSA “educate the motoring public about how to safely share the road with commercial motor vehicles.” The principal campaign goal is to increase motorists' awareness of the STRS campaign and its highway safety messages.

The FMCSA will conduct a quantitative analysis of the Share The Road Safely public information, education and outreach campaign and its messages by developing and administering an evaluation study using pre-campaign and post-campaign survey measures. This pre-campaign/post-campaign study will help evaluate the impact the STRS campaign has on increasing motorists' awareness of commercial motor vehicle limitations and unsafe driving practices of the motoring public around large commercial motor vehicles in several ways.

First, the study will be conducted to determine the motoring public's recognition and awareness of the STRS campaign. Second, the study will be used as a starting point from which the campaign will be evaluated at a future date. Third, the study will quantify respondents' knowledge of large commercial motor vehicle (i.e., tractor trailers) limitations; their knowledge of “share the road safely” issues; and their knowledge of the STRS campaign and its messages.

It is anticipated that a sample of 4,000 potential respondents will be needed in order to complete 1,000 interviews for the study in households with telephones using a national random digit dial sample.

Respondents: The respondents will be randomly selected adult licensed drivers. An estimated 1,000 responses will be necessary to conduct the analysis.

Average Burden Per Response: The estimated average burden per response is 9 minutes. It is planned that each respondent will be asked up to 36 specific questions concerning highway safety.

Estimated Total Annual Burden: The estimated total annual burden is 150 hours (1,000 responses x 9 minutes per response).

Frequency: This initial study will help the FMCSA establish a baseline for determining the public's awareness of large commercial motor vehicle limitations, “Share the Road Safely” highway safety issues, and STRS campaign messages. The same information will be collected again in 2 to 3 years to assess improvements in public awareness as a result of STRS public outreach efforts.

Public Comments Invited: Interested parties are invited to send comments regarding any aspect of this information collection, including, but not limited to (1) The necessity and utility of the information collection for the proper performance of the functions of the FMCSA; (2) the accuracy of the estimated burden; (3) ways to enhance the quality, utility, and clarity of the collected information; and (4) ways to minimize the collection burden without reducing the quality of the collected information. Comments submitted in response to this notice will be summarized and/or included in the request for OMB clearance of this information collection.

Authority: Pub. L. 102-240, 105 Stat. 1914; and 49 CFR 1.73.

Issued on: December 1, 2003.
Annette M. Sandberg,
Administrator.

[FR Doc. 03-30377 Filed 12-5-03; 8:45 am]

BILLING CODE 4910-EX-P